DEPARTMENT OF ENERGY

Federal Energy Regulatory Commission

[Docket No. ER03-18-001, et al.]

Athens Generating Company, L.P., et al.; Electric Rate and Corporate Filings

April 14, 2003.

The following filings have been made with the Commission. The filings are listed in ascending order within each docket classification.

1. Athens Generating Company, L.P.; Covert Generating Company, LLC; Harquahala Generating Company, LLC; Millennium Power Partners, L.P.; New GenHoldings

[Docket No. EC03-18-001]

Take notice that on April 10, 2003, Athens Generating Company, L.P., Covert Generating Company, LLC, Harquahala Generating Company, LLC, and Millennium Power Partners, L.P., (collectively, the NEG Companies) each of which is an indirect, wholly-owned subsidiary of PG&E National Energy Group, Inc. (PG&E NEG), and New GenHoldings (which may be referred to hereafter individually as Applicant or jointly as Applicants) tendered for filing, pursuant to section 203 of the Federal Power Act, 16 U.S.C. 824b, and part 33 of the Commission's regulations, 18 CFR part 33, an amended and restated application for authorization to dispose of jurisdictional facilities. The Applicants state that more specifically, PG&E NEG seeks approval to effectuate an internal corporate reorganization with respect to some or all of the NEG Companies and then transfer all of its ownership interests in the NEG Companies to New GenHoldings that are direct, or indirect, wholly-owned subsidiaries of the lenders to the NEG Companies and/or to their upstream owners.

Comment Date: May 1, 2003.

2. Northern Indiana Public Service Company

[Docket No. ER96-399-004]

Take notice that on April 10, 2003, Northern Indiana Public Service Company (Northern Indiana) filed a revised tariff sheet as part of its FERC Electric Tariff, First Revised Volume No. 5. Northern Indiana states that the revised tariff sheet is submitted to clarify the filing that it made on March 17, 2003, in compliance with the Order issued by the Commission on December 30, 2002.

Northern Indiana states that copies of this filing have been sent to all parties on the Commission's official service list.

Comment Date: May 1, 2003.

3. GenWest, LLC

[Docket No. ER03-352-001]

Take notice that on April 10, 2003, GenWest, LLC, filed an amendment to its application for authority to sell power at market-based rates.

Comment Date: May 1, 2003.

4. Duke Energy Corporation

[Docket No. ER03-481-001]

Take notice that on April 10, 2003, Duke Energy Corporation, on behalf of Duke Electric Transmission, (collectively, Duke) tendered for filing the revised First Amended and Restated Generation Interconnection and Operating Agreement (Restated IOA) between Duke and Rowan County Power, LLC, as the successor in interest to Carolina Power and Light Company in compliance with the Commission's March 1, 2003 letter order.

Comment Date: May 1, 2003.

5. Portland General Electric Company

[Docket No. ER03-733-000]

Take notice that on April 10, 2003, Portland General Electric Company (PGE) tendered for filing an executed Facility Interconnection and Operation Agreement between PGE and SP Newsprint Co., (SP Newsprint). PGE states that the agreement is pursuant to PGE's Open Access Transmission Tariff (OATT), Attachment K, section 6, effective April 2, 2001.

PGE requests a waiver of the Commission's 60-day notice requirement and an effective date of May 12, 2003. PGE also states that a copy of the filing was served upon SP Newsprint and the Oregon Public Utility Commission.

Comment Date: May 1, 2003.

6. Midwest Independent Transmission System Operator, Inc.

[Docket No. ER03-732-000]

Take notice that on April 10, 2003, Midwest Independent Transmission System Operator, Inc. (Midwest ISO) pursuant to section 205 of the Federal Power Act, submitted for filing an Interconnection and Operating Agreement among Otter Tail Power Company (Transmission Side) and Otter Tail Power Company (Generation Side).

Midwest ISO states that a copy of this filing was sent to Otter Tail Power Company (Transmission Side) and Otter Tail Power Company (Generation Side).

Comment Date: May 1, 2003.

7. Westar Energy, Inc.

[Docket No. ER03-734-000]

Take notice that on April 10, 2003, Westar Energy, Inc. (Westar) submitted for filing revisions to Sheet No. 133 through Sheet No. 135 of the Open Access Transmission Tariff, FERC Electric Tariff Second Revised Volume No. 5.

Westar states that it proposes to update Schedule 4—Energy Imbalance Service to clarify how customers will be billed or credited when there is a difference between a customer's scheduled and delivered energy. Westar also states that it proposes to set a minimum price of $100 per MWh whenever a customer is billed for service under this schedule.

Westar states that a copy of the filing was served upon the Kansas Corporation Commission.

Comment Date: May 1, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-9679 Filed 4-18-03; 8:45 am]

BILLING CODE 6717-01-P